FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Go-Trans (New York) Ltd., 147-32 Farmers Blvd., 2/F., Jamaica, NY 11434. Officer: Muhammad Bhatti, Chief Operating Officer (Qualifying Individual).

Marine Express, Inc., P.O. Box 6448, Concordia #249 Altos, Mayaguez, P.R. 00681-6448. Officers: Nestor Gonzalez, President (Qualifying Individual), Dr. Luis Aponte, Vice President.

Mirsonia, Inc., 611 Howard Street #236, Glendale, CA 91206. Officers: Jamie Yoon, Vice President (Qualifying Individual), Kiryong Lee, President.

Zohar Worldwide LLC dba Relampago International, dba Relllampago Express, 1069 Sneath Lane, San Bruno, CA 94066. Officers: Houshang Arasteh, Vice President (Qualifying Individual), Carlos A. Larios, Jr., President.

Dimex Consulting, Inc., 118 W. Hazel Street, Ste. A, Inglewood, CA 90302. Officer: Diem T. Nguyen, Owner.

Non-Vessel Operating Common Carrier and Ocean Freight Forwarder Transportation Intermediary Applicants

Eastern Shipping Worldwide, Inc., 1050 Busse Highway, Suite 125, Bensenville, IL 60106. Officers: Eric Wagner, President (Qualifying Individual), Catherine Wagner, Vice President.

Trac-Mar Network Inc., 7225 NW 25 Street, Suite 203, Miami, FL 33122. Officers: Teresita Rodriguez-Adan, President (Qualifying Individual), Juan J. Adan, Secretary.

Ameritrans World Group, Inc., 7102 NW 50th Street, Miami, FL 33166-5636. Officers: Martin Roy Leon, President, Cesar Ocampo, Senior Vice President, Henry Zuluaga, Exec. Vice President, Carlos Ospina, Vice President (Qualifying Individuals), Roy Leon Jr., Vice President.

Speedex Air & Ocean, Inc., 12906 Acord Street, Cerritos, CA 90703. Officer: Jung Ah Shim, President (Qualifying Individual).

Dated: June 28, 2002.
Bryant L. VanBrakle,
Secretary.

[FR Doc. 02-16758 Filed 7-3-02; 8:45 am]

BILLING CODE 6730-01-P